MARINE MAMMAL COMMISSION

Notice of Meeting

Time and Date: The Marine Mammal Commission will conduct a review of the potential effects of human activities, including aquaculture operations, on harbor seals in Drake's Estero, Mann County, California, on 21-24 February 2010 from 9 a.m. to approximately 6 p.m.

Place: The Red Barn, Point Reyes National Seashore, I Bear Valley Road, Point Reyes Station, CA 94956.

Status: Sessions on Sunday, February 21, and Tuesday and Wednesday, February 23-24 will be open to the public. Public participation will be allowed as time permits and as determined to be desirable by the meeting chairperson. There will be no public meeting on Monday, February 22.

Matters To Be Considered: An independent review panel will meet on Sunday, February 21, to hear presentations on potential sources of disturbance for harbor seals in Drake's Estero. The meeting will adjourn on Monday, February 22, to allow panel members to make a site visit. The panel will reconvene on Tuesday and Wednesday, 23-24 February, to consider and discuss the information received. Additional information on the review is available on the Commission's Web site at http://www.mmc.gov. A meeting agenda will be posted on the site when it is finalized.

FOR FURTHER INFORMATION CONTACT: Suzanne Montgomery, Special Assistant to the Executive Director, Marine Mammal Commission, 4340 East-West Highway, Room 700, Bethesda, MD 20814; 301-504-0087; e-mail: smontgomery@mmc.gov.

Dated: February 1, 2010.
Timothy J. Ragen,
Executive Director.

[FR Doc. 2010-2379 Filed 2-4-10; 8:45 am]

BILLING CODE 6820-31-M